DEPARTMENT OF HEALTH AND HUMAN SERVICES

National Institutes of Health

Submission for OMB Review; 30-Day Comment Request: Outcomes Evaluation of the National Cancer Institute (NCI) Cancer Prevention Fellowship Program (CPFP)

SUMMARY: Under the provisions of Section 3507(a)(1)(D) of the Paperwork Reduction Act of 1995, the National Institutes of Health (NIH), has submitted to the Office of Management and Budget (OMB) a request to review and approve the information collection listed below. This proposed information collection was previously published in the Federal Register on August 12, 2013, (Vol. 78 FR p. 48879) and allowed 60 days for public comment. One public comment was received on August 18, 2013 which questioned the effectiveness of the program and whether the study was an effective use of taxpayer funds. An email response was sent on September 9, 2013 stating, “Your response will be reviewed in further consideration of all comments submissions made during the 60-day public notice period for this proposed information collection. Thank you for your inquiry, comments and/or suggestions”. The purpose of this notice is to allow an additional 30 days for public comment. The National Cancer Institute (NCI), National Institutes of Health may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974. Attention: NIH Desk Officer.

Comments Due Date: Comments regarding this information collection are best assured of having their full effect if received within 30-days of the date of this publication.

FOR FURTHER INFORMATION CONTACT: To obtain a copy of the data collection plans and instruments or request more information on the proposed project contact: Jessica Faupel-Badger, Ph.D., MPH, Cancer Prevention Fellowship Program, National Cancer Institute, 9609 Medical Center Drive, Room 2W136 MSC 9712, Bethesda, Maryland 20892-9712 or call non-toll-free number 240-276-5650 or Email your request, including your address to: badgerje@mail.nih.gov. Formal requests for additional plans and instruments must be requested in writing.

Proposed Collection: Outcomes Evaluation of the National Cancer Institute (NCI) Cancer Prevention Fellowship Program (CPFP)—0925—NEW—National Cancer Institute (NCI), National Institutes of Health (NIH).

Need and Use of Information Collection: The National Cancer Institute's (NCI) Cancer Prevention Fellowship Program (CPFP) mission is to train early career scientists from diverse disciplines to become outstanding independent researchers and leaders. This postdoctoral program conducted on-site at NCI has been in existence for over 25 years and has approximately 200 alumni. The current study will focus on the implementation of a new survey instrument to capture career outcomes from CPFP alumni and two comparison groups, CPFP applicants and NCI F32 awardees. With the diversity of disciplines represented by CPFP alumni, the results of this evaluation will be of broad interest to the biomedical research training community.

OMB approval is requested for one year. There are no costs to respondents other than their time. The total estimated annualized burden hours are 197.

Estimated Annualized Burden Hours
Type of respondent | Number of respondents | Number of responses per respondent | Average burden per response (in hours) | Total annual burden hour
CPFP Alumni | 160 | 1 | 25/60 | 67
CPFP Applicants | 170 | 1 | 20/60 | 57
F32 Awardees | 220 | 1 | 20/60 | 73

Dated: December 5, 2013.
Vivian Horovitch-Kelley,
NCI Project Clearance Liaison, National Institutes of Health.

[FR Doc. 2013-29868 Filed 12-16-13; 8:45 am]

BILLING CODE 4140-01-P